DEPARTMENT OF COMMERCE

International Trade Administration

[A-357-812]

Honey from Argentina: Preliminary Results of Antidumping Duty Administrative Review and Intent To Revoke Order in Part

AGENCY: Import Administration, International Trade Administration, Department of Commerce.

SUMMARY: In response to requests by interested parties, the Department of Commerce (the Department) is conducting an administrative review of the antidumping duty order on honey from Argentina. The review covers one company (see “Background” section of this notice for further explanation). The period of review (POR) is December 1, 2007, through November 30, 2008.

We preliminarily determine that sales of honey from Argentina have not been made below normal value (NV) by Asociacion de Cooperativas Argentinas (ACA) during the POR. We also preliminarily intend to revoke ACA from the antidumping duty order pursuant to its request dated December 30, 2008. If these preliminary results are adopted in our final results of administrative review, we will issue appropriate assessment instructions to U.S. Customs and Border Protection (CBP). Interested parties are invited to comment on these preliminary results. See “Preliminary Results of Review,” below.

DATES: Effective Date: December 29, 2009.

FOR FURTHER INFORMATION CONTACT: John Drury, Dena Crossland, or Angelica Mendoza, AD/CVD Operations, Office 7, Import Administration, International Trade Administration, U.S. Department of Commerce, 14th Street and Constitution Avenue, NW., Room 7850, Washington, DC 20230; telephone (202) 482-0195, (202) 482-3362, or (202) 482-3019, respectively.

SUPPLEMENTARY INFORMATION:

Background

On December 10, 2001, the Department published the antidumping duty order on honey from Argentina. See Notice of Antidumping Duty Order: Honey From Argentina, 66 FR 63672 (December 10, 2001). On December 1, 2008, the Department published in the Federal Register its notice of opportunity to request an administrative review of this order. See Antidumping or Countervailing Duty Order, Finding, or Suspended Investigation; Opportunity To Request Administrative Review, 73 FR 72764 (December 1, 2008). In response, on December 30, 2008, ACA requested an administrative review of the antidumping duty order on honey from Argentina for the period December 1, 2007, through November 30, 2008. On December 31, 2008, the American Honey Producers Association and Sioux Honey Association (collectively, petitioners) requested an administrative review of the antidumping duty order on honey from Argentina for the period December 1, 2007, through November 30, 2008. Specifically, petitioners requested that the Department conduct an administrative review of entries of subject merchandise made by 17 Argentine producers/exporters.¹ Also on December 31, 2008, Nexco S.A. (Nexco) requested an administrative review of the antidumping duty order on honey from Argentina for the period December 1, 2007, through November 30, 2008. ACA and Nexco were included in the petitioners' request for review.

¹ Petitioners requested Compania Apicola Argentina S.A. (CAA) and Mielar S.A. (Mielar) as separate entities. However, in a previous segment of this proceeding, the Department treated these two companies as a single entity.

On February 2, 2009, the Department initiated a review of the 17 companies for which an administrative review was requested. See Initiation of Antidumping and Countervailing Duty Administrative Reviews and Request for Revocation in Part, 74 FR 5821 (February 2, 2009) (Initiation Notice).

The Department received a request for administrative review from Patagonik S.A. (Patagonik) in response to the December 1, 2008, opportunity to request an administrative review. However, its request was dated January 2, 2009, after the December 31, 2008, deadline. On January 23, 2009, the Department returned the letter requesting an administrative review to Patagonik, stating that the request was untimely and that the Department would not initiate a review based on this request. See Letter from the Department of Commerce to Patagonik S.A., dated January 23, 2009. On February 23, 2009, Patagonik submitted a letter requesting that the Department reconsider its decision not to initiate a review based on Patagonik's request. Patagonik provided information to the Department indicating the reasons for the untimely filing of the request. After examining the information, the Department again declined to initiate an administrative review based on Patagonik's request. See Letter from the Department of Commerce to Patagonik S.A., dated March 17, 2009.

On February 9, 2009, Compania Invesora Platense S.A. (CIPSA) submitted a letter certifying that during the POR, it had no exports, sales, or entries of subject merchandise, and requested that the Department rescind the administrative review with respect to CIPSA.

On February 10, 2009, the Department issued a memorandum indicating its intention to limit the number of respondents selected for review and to select mandatory respondents based on U.S. Customs and Border Protection (CBP) data for U.S. imports of Argentine honey during the POR. See Memorandum to File through Richard Weible, Office Director, Office 7, AD/CVD Operations, regarding “Honey from Argentina—United States Customs and Border Protection Entry Data for Selection of Respondents for Individual Review,” dated February 10, 2009. On February 17, 2009, HoneyMax S.A. (HoneyMax), an exporter of subject merchandise, submitted comments in response to the Department's intended respondent selection methodology. HoneyMax requested that for the purpose of mandatory respondent selection in the instant review, the Department issue quantity and value questionnaires to parties for whom a review had been requested, rather than rely on CBP entry data.

On February 18, 2009, Mielar and CAA submitted a letter certifying that during the POR, neither had made any shipment, sale, or U.S. entry of subject merchandise, and requested that the Department rescind the administrative review with respect to Mielar and CAA.

On March 4, 2009, HoneyMax submitted a letter certifying that during the POR, it had no sales of subject merchandise, and requested that the Department rescind the administrative review with respect to HoneyMax.

On March 6, 2009, petitioners timely withdrew their requests for review of the following companies: AGLH S.A., Algodonera Avellaneda S.A., Alimentos Naturales-Natural Foods, Alma Pura, Bomare S.A. (Bodegas Miguel Armengol), Compania Apicola Argentina S.A. and Mielar S.A., CIPSA, EL Mana S.A., HoneyMax, Interrupcion S.A., Miel Ceta SRL, Patagonik S.A., Productos Afer S.A., Seabird Argentina S.A., and Seylinco S.A. (Seylinco).

On March 9, 2009, Seylinco submitted a letter certifying that during the POR, it had no sales of subject merchandise, and requested that the Department rescind the administrative review with respect to Seylinco.

On April 17, 2009, the Department rescinded the administrative review with respect to AGLH S.A., Algodonera Avellaneda S.A., Alimentos Naturales-Natural Foods, Alma Pura, Bomare S.A. (Bodegas Miguel Armengol), Compania Apicola Argentina S.A. and Mielar S.A., CIPSA, EL Mana S.A., HoneyMax, Interrupcion S.A., Miel Ceta SRL, Patagonik S.A., Productos Afer S.A., Seabird Argentina S.A., and Seylinco because petitioners were the only party to request an administrative review of each of these companies. See Honey from Argentina: Notice of Partial Rescission of Antidumping Duty Administrative Review, 74 FR 17815 (April 17, 2009).

On April 21, 2009, the Department issued sections A, B, and C of the antidumping questionnaire to the remaining respondents, ACA and Nexco.

ACA and Nexco filed their responses to section A of the Department's questionnaire on May 26, 2009, and ACA filed its response to sections B and C of the Department's questionnaire on June 18, 2009.

On June 10, 2009, both petitioners and Nexco submitted letters withdrawing their requests for an administrative review of Nexco. On July 16, 2009, the Department published a notice of partial rescission in response to petitioners' and Nexco's June 10, 2009, withdrawal of their requests for review of Nexco. See Honey from Argentina: Notice of Partial Rescission of Antidumping Duty Administrative Review, 74 FR 34550 (July 16, 2009).

On July 8, 2009, petitioners submitted a letter alleging that ACA had made comparison market sales of honey at prices below the cost of production (COP) during the POR. ACA submitted comments regarding the petitioners' cost allegation on July 20, 2009.

The Department issued a supplemental questionnaire to ACA for sections A, B, and C of the questionnaire on July 24, 2009, to which ACA responded on August 24, 2009.

On August 7, 2009, the Department issued a memorandum stating the petitioners had not provided a reasonable basis to believe or suspect ACA sold honey in the comparison market at prices below the COP during the POR and, based on this reason, did not initiate a sales-below-cost investigation for ACA. See Memorandum to Richard Weible, Director, Office 7, “Petitioner's Allegation of Sales Below the Cost of Production with Respect to Asociacion de Cooperativas Argentinas in the December 1, 2007—November 30, 2008 Administrative Review of the Antidumping Duty Order on Honey from Argentina,” dated August 7, 2009 (ACA Cost Allegation Memorandum).

The Department issued a second supplemental questionnaire to ACA for sections B and C on September 4, 2009, to which ACA responded on September 14, 2009.

On September 9, 2009, the Department extended the deadline for the preliminary results of this review from September 2, 2009, to December 18, 2009. See Honey from Argentina: Notice of Extension of Time Limit for Preliminary Results of Antidumping Duty Administrative Review, 74 FR 46418 (September 9, 2009).

On December 4, 2009, ACA submitted a letter requesting that the Department correct an error to the Department's verification report dated November 25, 2009. On December 11, 2009, the Department rejected ACA's December 4, 2009, letter in accordance with 19 CFR 351.302(d) because it contained untimely and unsolicited new factual information.

Scope of the Review

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise covered by the order is currently classifiable under subheadings 0409.00.00, 1702.90.90, and 2106.90.99 of the Harmonized Tariff Schedule of the United States (HTSUS). Although the HTSUS subheadings are provided for convenience and customs purposes, the Department's written description of the merchandise under the order is dispositive.

Intent To Revoke In Part

As noted above, on December 30, 2008, ACA requested revocation of the antidumping duty order with respect to its sales of subject merchandise, pursuant to 19 CFR 351.222(b)(2). ACA's request was accompanied by certifications that it: (1) Has sold subject merchandise at not less than NV in the current review period and will not sell subject merchandise at less than NV in the future; (2) has sold subject merchandise in commercial quantities during each of the consecutive three years forming the basis for its request for revocation; and (3) agrees to reinstatement of the antidumping duty order if the Department concludes ACA has sold subject merchandise at less than NV subsequent to revocation. See 19 CFR 351.222(e)(1).

We preliminarily determine that the request from ACA meets all of the criteria under 19 CFR 351.222(e)(1) and that revocation is warranted pursuant to 19 CFR 351.222(b)(2). With regard to the criteria of 19 CFR 351.222(b)(2), our preliminary margin calculation shows ACA sold honey at not less than NV during the current review period. See “Preliminary Results of the Review” section below. In addition, ACA sold honey at not less than NV (i.e., its dumping margins were zero or de minimis) in the two previous administrative reviews in which it was involved. See Honey from Argentina: Final Results of Antidumping Duty Administrative Review and Determination Not to Revoke in Part, 73 FR 24220 (May 2, 2008) (2005-2006 Final Results) and Honey from Argentina: Final Results of Antidumping Duty Administrative Review and Determination to Revoke Order in Part, 74 FR 32107 (July 7, 2009) (2006-2007 Final Results).

Furthermore, based on our examination of ACA's sales data, we preliminarily determine that ACA sold subject merchandise in the United States in commercial quantities in each of the three consecutive years cited to support its request for revocation. See Memorandum to Richard Weible, Director, Office 7, “Request by Asociacion de Cooperativas Argentinas (ACA) for Revocation in the Antidumping Duty Administrative Review of Honey from Argentina,” dated December 18, 2009 (Revocation Memorandum). Thus, we preliminarily find ACA had zero or de minimis dumping margins for three consecutive years and sold subject merchandise in commercial quantities in each of these years. See 19 CFR 351.222(b)(2)(i)(A). As indicated above, ACA agreed to immediate reinstatement of the order, if the Department concludes that ACA sold the subject merchandise at less than normal value subsequent to revocation. See 19 CFR 351.222(b)(2)(i)(B). In sum, we preliminarily determine that the application of the antidumping duty order with respect to honey exported by ACA is no longer warranted for the following reasons: (1) The company had zero or de minimis margins for a period of at least three consecutive years; (2) the company has agreed to immediate reinstatement of the order if the Department finds that it has resumed making sales at less than NV; and (3) the continued application of the order is not otherwise necessary to offset dumping. See 19 CFR 351.222(b)(2)(i). Therefore, we preliminarily find ACA qualifies for revocation of the order pursuant to 19 CFR 351.222(b)(2).² See Revocation Memorandum. If these preliminary findings are affirmed in our final results, we will revoke the order in part with respect to honey exported by ACA and, in accordance with 19 CFR 351.222(f)(3), terminate the suspension of liquidation for any merchandise in question that is entered, or withdrawn from warehouse, for consumption on or after December 1, 2008, and instruct CBP to refund any cash deposits for such entries.

² Only exports by ACA in which ACA is the first party with knowledge of the U.S. destination of the merchandise will be covered by this revocation. See 2006-2007 Final Results (at footnote 1).

Verification

As provided in section 782(i) of the Act and 19 CFR 351.222(f)(2)(ii), from September 21, 2009, through September 25, 2009, we verified sales information provided by ACA, using standard procedures such as the examination of company sales and financial records. Our verification results are outlined in the public and proprietary versions of our verification reports, which are on file in the Central Records Unit (CRU) in room 1117 of the main Commerce Department building. See Memorandum to the File, “Verification of the Third Country Market and Export Price Sales Responses of Asociacion de Cooperativas Argentinas (ACA) in the Antidumping Review of the Antidumping Duty Order on Honey from Argentina,” dated November 25, 2009.

Product Comparison

In accordance with section 771(16) of the Act, we considered all sales of honey covered by the description in the “Scope of the Review” section of this notice, supra, which were sold in the appropriate third-country markets during the POR to be the foreign like product for the purpose of determining appropriate product comparisons to honey sold in the United States. For our discussion of market viability and selection of comparison market, see the “Normal Value” section of this notice, infra. We matched products based on the physical characteristics reported by ACA. Where there were no sales of identical merchandise in the third-country market to compare to U.S. sales, we compared U.S. sales to the next most similar foreign like product on the basis of the characteristics and reporting instructions listed in the antidumping duty questionnaire and instructions, or to constructed value (CV), as appropriate.

Level of Trade

In accordance with section 773(a)(1)(B)(i) of the Act, to the extent practicable, we determine NV based on sales in the comparison market at the same level of trade (LOT) as export price (EP) or the constructed export price (CEP). The NV LOT is based on the starting price of the sales in the comparison market or, when NV is based on CV, that of the sales from which we derive selling, general and administrative expenses and profit. See also 19 CFR 351.412(c)(1)(iii). For CEP, it is the level of the constructed sale from the exporter to an affiliated importer after the deductions required under section 772(d) of the Act. See 19 CFR 351.412(c)(1)(ii). For EP, it is the starting price. See 19 CFR 351.412(c)(1)(i). In this review, ACA claimed only EP sales.

To determine whether NV sales are at a different LOT than EP, we examine stages in the marketing process and selling functions along the chain of distribution between the producer and the unaffiliated customer. If the comparison market sales are at a different LOT and the difference affects price comparability, as manifested in a pattern of consistent price differences between the sales on which NV is based and comparison market sales at the LOT of the export transaction, we make a LOT adjustment under section 773(a)(7)(A) of the Act.

ACA reported that all of its third-country sales were made to packers and all of its U.S. sales were made to importers, and that the LOT for each market corresponded to these two channels of distribution. The Department has determined that differing channels of distribution, alone, do not qualify as separate LOTs when selling functions performed for each customer class are sufficiently similar. See Notice of Preliminary Results and Partial Rescission of Antidumping Duty Administrative Review: Ninth Administrative Review of the Antidumping Duty Order on Certain Pasta from Italy, 71 FR 45017, 45022 (August 8, 2006) (unchanged in Notice of Final Results of the Antidumping Duty Order on Certain Pasta from Italy, 72 FR 7011 (February 14, 2007)); see also 19 CFR 351.412(c)(2). We find the selling functions ACA provided to packer customers in the third-country market and importer customers in the U.S. market were virtually the same, varying only by the degree to which testing and warranty services were provided. We do not find the varying degree of testing and warranty services alone sufficient to determine the existence of different marketing stages. Thus, we have preliminarily determined there is only one LOT for ACA's sales in both the comparison and U.S. markets, and have not made a LOT adjustment. See Memorandum to the File, “Analysis Memorandum for Preliminary Results of the Antidumping Duty Review on Honey from Argentina for Asociacion de Cooperativas Argentinas” (ACA Preliminary Analysis Memorandum), dated December 18, 2009.

Transactions Reviewed

19 CFR 351.401(i) states the Department normally will use the date of invoice, as recorded in the exporter's or producer's records kept in the ordinary course of business, as the date of sale, but may use a date other than the date of invoice if it better reflects the date on which the material terms of sale are established. For ACA, the Department used the reported shipment date as the date of sale for both the third-country and U.S. markets.³ In the original investigation of honey from Argentina, we thoroughly examined the date of sale issue for ACA and found that changes to the essential terms of sale can and did occur between the contract date and the time of the actual shipment by ACA. The same was true for each subsequent POR, and we continued to use the date of shipment for ACA as the date of sale. Furthermore, in the instant POR, we found changes did, in fact, occur between contract date and shipment date with respect to the type of honey sold to the customer. Consequently, we preliminarily find that shipment date continues to be the appropriate date of sale with respect to ACA's sales in the U.S. and comparison markets.

³ When shipment occurs prior to invoice date, as in the case of ACA's sales in both the U.S. and third-country markets, it is the Department's practice to use the shipment date as the date of sale rather than the invoice date. See, e.g., Honey from Argentina: Preliminary Results and Partial Rescission of Antidumping Duty Administrative Review and Intent Not to Revoke in Part, 70 FR 76766, 76768 (December 28, 2005), unchanged in Honey from Argentina: Final Results, Partial Rescission of Antidumping Duty Administrative Review and Determination Not to Revoke in Part, 71 FR 26333 (May 4, 2006); see also Notice of Final Determinations of Sales at Less Than Fair Value: Certain Durum Wheat and Hard Red Spring Wheat from Canada, 68 FR 52741 (September 5, 2003) and the accompanying Issues and Decision Memorandum at Comment 3.

Export Price and Constructed Export Price

Section 772(a) of the Act defines EP as “the price at which the subject merchandise is first sold (or agreed to be sold) before the date of importation by the producer or exporter of subject merchandise outside of the United States to an unaffiliated purchaser in the United States or to an unaffiliated purchaser for exportation to the United States, as adjusted under subsection (c).” Section 772(b) of the Act defines CEP as “the price at which the subject merchandise is first sold (or agreed to be sold) in the United States before or after the date of importation by or for the account of the producer or exporter of such merchandise or by a seller affiliated with the producer or exporter, to a purchaser not affiliated with the producer or exporter,” as adjusted under sections 772(c) and (d). ACA has classified its U.S. sales as EP because all of its sales were made before the date of importation directly to unaffiliated purchasers in the U.S. market. For purposes of these preliminary results, we have accepted these classifications. We based EP on prices to unaffiliated customers in the United States and made adjustments for movement expenses.

Normal Value

1. Selection of Comparison Market

In accordance with section 773(a)(1)(C) of the Act, to determine whether there was a sufficient volume of sales in the home market to serve as a viable basis for calculating NV (i.e., the aggregate volume of home market sales of the foreign like product is greater than or equal to five percent of the aggregate volume of U.S. sales), we compared ACA's aggregate volume of home market sales of the foreign like product to its aggregate volume of U.S. sales of subject merchandise. Although ACA made some sales in the home market, the volume of ACA's home market sales was less than five percent of the aggregate volume of U.S. sales. As a result, we preliminarily find that ACA's home market does not provide a viable basis for calculating NV.

When sales in the home market are not suitable to serve as the basis for NV, section 773(a)(1)(B)(ii) of the Act provides that sales to a third-country market may be utilized if: (i) The prices in such market are representative; (ii) the aggregate quantity of the foreign like product sold by the producer or exporter in the third-country market is five percent or more of the aggregate quantity of the subject merchandise sold in or to the United States; and (iii) the Department does not determine that a particular market situation in the third-country market prevents a proper comparison with the U.S. price. In addition to looking at volume, we also examined product similarity and found that for ACA, product similarity with respect to the largest market was equal to that of other third country markets. Thus, the Department determines that for ACA it is appropriate to select the largest third-country market for comparison purposes.

ACA reported its sales to Germany, the largest third-country market in terms of sales volume. The record shows the aggregate quantity of ACA's sales to Germany is greater than five percent of ACA's sales to the United States. In addition, the Department preliminarily determines there is no evidence on the record to demonstrate that ACA's prices in Germany are not representative. Further, we find there is no particular market situation that would prevent a proper comparison to EP. As a result, we preliminarily find ACA's sales to Germany serve as the most appropriate basis for NV.

Therefore, NV for ACA is based on its third-country sales to unaffiliated purchasers made in commercial quantities and in the ordinary course of trade. For NV, we used the prices at which the foreign like product was first sold for consumption in the usual commercial quantities, in the ordinary course of trade, and, to the extent possible, at the same LOT as the EP. We calculated NV as noted in the “Price-to-Price Comparisons” section of this notice, infra.

2. Cost of Production

The petitioners alleged that ACA made comparison market sales of honey at prices less than the COP during the POR. See the petitioners' letters dated July 8, 2009. However, the Department determined that petitioners did not provide a reasonable basis on which to believe or suspect ACA had sold honey in the comparison market at prices below the COP during the POR. As a result, the Department did not initiate a sales-below-cost investigation for ACA. See ACA Cost Allegation Memorandum.

Price-to-Price Comparisons

We based NV on the third-country prices to unaffiliated purchasers. We made adjustments, where applicable, for movement expenses in accordance with section 773(a)(6)(B) of the Act. Where appropriate, we made circumstance-of-sale adjustments for credit pursuant to section 773(a)(6)(C) of the Act. We also made adjustments, where applicable, for other direct selling expenses, in accordance with section 773(a)(6)(C) of the Act. We preliminarily reclassified some of ACA's reported direct selling expenses (namely, certain of its expenses related to testing) as indirect selling expenses, consistent with our treatment of testing expenses in the 2005-2006 and 2006-2007 administrative reviews. See 2005-2006 Final Results and the accompanying Issues and Decision Memorandum at Comment 1 and 2006-2007 Final Results and accompanying Issues and Decision Memorandum at Comment 5. Thus, we have not included certain of ACA's testing expenses among the direct selling expenses for which we made adjustments in these preliminary results. For more information, see ACA Preliminary Analysis Memorandum.

Currency Conversions

The Department's preferred source for daily exchange rates is the Federal Reserve Bank. See Preliminary Results of Antidumping Duty Administrative Review: Stainless Steel Sheet and Strip in Coils from France, 68 FR 47049, 47055 (August 7, 2003), unchanged in Notice of Final Results of Antidumping Duty Administrative Review: Stainless Steel Sheet and Strip in Coils From France, 68 FR 69379 (December 12, 2003). However, the Federal Reserve Bank does not track or publish exchange rates for the Argentine peso. Therefore, we made currency conversions from Argentine pesos to U.S. dollars based on the daily exchange rates from Factiva, a Dow Jones & Reuters Retrieval Service. Factiva publishes exchange rates for Monday through Friday only. We used the rate of exchange on the most recent Friday for conversion dates involving Saturday through Sunday where necessary. For prices and expenses that ACA reported in Euros, we made currency conversions into U.S. dollars based on the exchange rates in effect on the dates of the U.S. sales, as certified by the Federal Reserve Bank, in accordance with section 773A(a) of the Act.

Preliminary Results of Review

As a result of our review, we preliminarily determine the following weighted-average dumping margin exists for the period December 1, 2007, through November 30, 2008:

Exporter | Weighted-average margin (percentage)
Asociacion de Cooperativas Argentinas | 0.00

The Department will disclose calculations performed within five days of the date of publication of this notice in accordance with 19 CFR 351.224(b). An interested party may request a hearing within thirty days of publication. See 19 CFR 351.310(c). Any hearing, if requested, will be held 37 days after the date of publication, or the first business day thereafter, unless the Department alters the date pursuant to 19 CFR 351.310(d). Interested parties may submit case briefs or written comments no later than 30 days after the date of publication of these preliminary results of review. Rebuttal briefs and rebuttals to written comments, limited to issues raised in the case briefs and comments, may be filed no later than 35 days after the date of publication of this notice. Parties who submit arguments in these proceedings are requested to submit with the argument: (1) A statement of the issues, (2) a brief summary of the argument, and (3) a table of authorities. Further, parties submitting case briefs, rebuttal briefs, and written comments should provide the Department with an additional copy of the public version of any such argument on diskette. The Department will issue final results of this administrative review, including the results of our analysis of the issues in any such case briefs, rebuttal briefs, and written comments or at a hearing, within 120 days of publication of these preliminary results.

Assessment

The Department shall determine, and CBP shall assess, antidumping duties on all appropriate entries. In accordance with 19 CFR 351.212(b)(1), where entered values were reported, we calculated importer-specific ad valorem assessment rates for the merchandise based on the ratio of the total amount of antidumping duties calculated for the examined sales made during the POR to the total customs value of the sales used to calculate those duties. Where entered values were not reported, we calculated importer-specific per-unit assessment rates for the merchandise based on the ratio of the total amount of antidumping duties calculated for the examined sales made during the POR to the total quantity of the sales used to calculate those duties. These rates will be assessed uniformly on all ACA entries made during the POR. The Department intends to issue assessment instructions to CBP 15 days after the date of publication of the final results of this review.

The Department clarified its “automatic assessment” regulation on May 6, 2003. See Antidumping and Countervailing Duty Proceedings: Assessment of Antidumping Duties, 68 FR 23954 (May 6, 2003). This clarification will apply to entries of subject merchandise during the period of review produced by companies included in these final results of review for which the reviewed companies did not know their merchandise was destined for the United States. In such instances, we will instruct CBP to liquidate unreviewed entries at the all-others rate if there is no rate for the intermediate company(ies) involved in the transaction.

Cash Deposit Requirements

The following cash deposit requirements will be effective upon completion of the final results of this administrative review for all shipments of honey from Argentina entered, or withdrawn from warehouse, for consumption on or after the publication date of the final results of this administrative review, as provided by section 751(a)(1) of the Act: (1) The cash deposit rate for the company covered by this review (i.e., ACA) will be the rate established in the final results of review, except that, if our preliminary determination to revoke in part becomes final, no cash deposit will be required of ACA; (2) for any previously reviewed or investigated company not listed above, the cash deposit rate will continue to be the company-specific rate published for the most recent period; (3) if the exporter is not a firm covered in this review or the less-than-fair-value investigation, but the manufacturer is, the cash deposit rate will be the rate established for the most recent period for the manufacturer of the merchandise; and (4) if neither the exporter nor the manufacturer is a firm covered in this or any previous review conducted by the Department, the cash deposit rate will be the all-others rate from the investigation (30.24 percent). See Notice of Antidumping Duty Order; Honey From Argentina, 66 FR 63672 (December 10, 2001). These cash deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing this notice in accordance with sections 751(a)(1) and 777(i)(1) of the Act.

Dated: December 18, 2009.
Ronald K. Lorentzen,
Deputy Assistant Secretary for Import Administration.

[FR Doc. E9-30689 Filed 12-24-09; 8:45 am]

BILLING CODE 3510-DS-P